DEPARTMENT OF HOMELAND SECURITY

Coast Guard

33 CFR Part 3

[Docket No. USCG-2010-0351]

RIN 1625-ZA25

Navigation and Navigable Waters; Technical, Organizational, and Conforming Amendments, Sector Puget Sound, WA; Correction

AGENCY: Coast Guard, DHS.

ACTION: Final rule; correction.

SUMMARY: The Coast Guard published in the Federal Register of August 5, 2010, a document concerning non-substantive changes to Title 33 Parts 3 and 165 of the Code of Federal Regulations. That publication contained an error in amendatory instruction 2 and its regulatory text for part 3. This document corrects this error.

DATES: This correction is effective September 24, 2010.

FOR FURTHER INFORMATION CONTACT: If you have questions on this rule, call or e-mail Lt. Matthew Jones, Coast Guard; telephone 206-220-7110, e-mail Matthew.m.jones@uscg.mil. If you have questions on viewing the docket, call Renee V. Wright, Program Manager, Docket Operations, telephone 202-366-9826.

SUPPLEMENTARY INFORMATION: In FR doc 2010-19326 appearing on page 47212 in the issue of Thursday, August 5, 2010, the following correction is made:

1. On page 47212, in the second column, revise amendatory instruction number 2 to read as follows:

“Revise § 3.65-10 to read as follows:

§ 3.65-10 Sector Puget Sound Marine Inspection Zone and Captain of the Port Zone.

Sector Puget Sound's office is located in Seattle, WA. The boundaries of Sector Puget Sound's Marine Inspection and Captain of the Port Zones start at latitude 48°29′35″ N, longitude 124°43′45″ W, proceeding along the Canadian border east to the Montana-North Dakota boundary; thence south along this boundary to the Wyoming state line; thence west and south along the Montana-Wyoming boundary to the Idaho state line; thence northwest along the Montana-Idaho boundary to latitude 46°55′00″ N; thence west along latitude 46°55′00″ N to longitude 123°18′00″ W; thence north to a point latitude 47°32′00″ N, longitude 123°18′00″ W; thence west along latitude 47°32′00″ N to the outermost extent of the EEZ; thence northeast along the outermost extent of the EEZ to the Canadian border; thence east along the Canadian border to the point of origin.”

Dated: September 21, 2010.
Sandra Selman,
CDR, USCG, Acting Chief, Office of Regulations and Administrative Law, United States Coast Guard.

[FR Doc. 2010-24015 Filed 9-23-10; 8:45 am]

BILLING CODE P